DEPARTMENT OF ENERGY

National Nuclear Security Administration

Extension of the Public Review and Comment Period and Announcement of an Additional Public Hearing for the Draft Supplemental Environmental Impact Statement for the Nuclear Facility Portion of the Chemistry and Metallurgy Research Building Replacement Project at Los Alamos National Laboratory, Los Alamos, NM

AGENCY: National Nuclear Security Administration, U.S. Department of Energy.

ACTION: Extension of Public Review and Comment Period and Announcement of an additional Public Hearing.

SUMMARY: On April 29, 2011, the National Nuclear Security Administration (NNSA), a semi-autonomous agency within the U.S. Department of Energy (DOE), published a notice of availability for the Draft Supplemental Environmental Impact Statement for the Nuclear Facility Portion of the Chemistry and Metallurgy Research Building Replacement Project at Los Alamos National Laboratory, Los Alamos, New Mexico (CMRR-NF DSEIS; DOE/EIS-0350-S1). That notice stated that the public review and comment period would continue until June 13, 2011. NNSA has decided to extend the public comment period by 15 days through June 28, 2011 and to hold an additional public hearing on Monday, May 23, 2011 in Albuquerque, NM.

ADDRESSES: The Draft CMRR-NF SEIS and its reference material are available for review on the NNSA NEPA Web site at: http://nnsa.energy.gov/nepa/cmrrseis. Copies of the Draft CMRR-NF SEIS are also available for review at: The Los Alamos National Laboratory, Oppenheimer Study Center, Building TA3-207, West Jemez Road, Los Alamos, New Mexico; the Office of the Northern New Mexico Citizens Advisory Board, 1660 Old Pecos Trail, Suite B, Santa Fe, New Mexico; and the Zimmerman Library, University of New Mexico, Albuquerque, New Mexico. The Draft CMRR-NF SEIS or its Summary may be obtained upon request by leaving a message on the Los Alamos Site Office (LASO) CMRR-NF SEIS Hotline at (toll free) 1-877-427-9439; or by writing to: U.S. Department of Energy, National Nuclear Security Administration, Los Alamos Site Office, 3747 West Jemez Road, TA-3 Building 1410, Los Alamos, New Mexico 87544, Attn: Mr. John Tegtmeier, CMRR-NF SEIS Document Manager; or by facsimile ((505) 667-5948); or by e-mail at: NEPALASO@doeal.gov.

FOR FURTHER INFORMATION CONTACT: For general information on the NNSA NEPA process, please contact: Ms. Mary Martin (NA-GC), NNSA NEPA Compliance Officer, U.S. Department of Energy, 1000 Independence Avenue, SW., Washington, DC 20585, or telephone 202-586-9438.

For general information concerning the DOE NEPA process, contact: Ms. Carol M. Borgstrom, Director, Office of NEPA Policy and Compliance (GC-54), U.S. Department of Energy, 1000 Independence Avenue, SW., Washington, DC 20585; (202) 586-4600; leave a message at (800) 472-2756; or send an e-mail to askNEPA@hq.energy.gov. Additional information regarding DOE NEPA activities and access to many DOE NEPA documents are available on the Internet through the DOE NEPA Web site at http://nepa.energy.gov.

SUPPLEMENTARY INFORMATION: The Council on Environmental Quality's implementing regulations for the National Environmental Policy Act (NEPA) (40 CFR 1502.9[c][1] and [2]) and DOE's NEPA implementing regulations (10 CFR 1021.314) require the preparation of a supplement to an environmental impact statement (EIS) when there are substantial changes to a proposal or when there are significant new circumstances or information relevant to environmental concerns. DOE may also prepare a supplemental EIS at any time to further the purposes of NEPA. Pursuant to these provisions, the NNSA has prepared a supplemental environmental impact statement (SEIS) to assess the potential environmental impacts of the construction and operation of the nuclear facility portion of the Chemistry and Metallurgy Research Building Replacement Project (CMRR-NF) at Los Alamos National Laboratory (LANL), Los Alamos, New Mexico.

The CMRR Project was first analyzed in the 2003 Final Environmental Impact Statement for the Proposed Chemistry and Metallurgy Research Building Replacement Project at Los Alamos National Laboratory, Los Alamos, NM (the CMRR EIS) (DOE/EIS-0350), and NNSA issued a Record of Decision for the CMRR Project in February 2004 (68 FR 6420) announcing its decision to construct and operate a two building CMRR facility within Technical Area-55 (TA-55) at Los Alamos National Laboratory (LANL) in order to meet its need to sustain mission-critical specialized nuclear chemistry and metallurgy capabilities at LANL in a safe, secure and environmentally sound manner. Since that time, NNSA has constructed one of the two buildings for the CMRR Project (the Radiological Laboratory/Utility/Office Building, also called the RLUOB), and has engaged in project planning and design processes for the second building, the CMRR-NF. The planning and design processes for the CMRR-NF have identified the need for various changes to the original design for the structure and additional project elements not envisioned in the 2003 NEPA analyses. These proposed changes, identified subsequent to the ROD, are the subject of the CMRR-NF SEIS analyses.

On April 29, 2011, the National Nuclear Security Administration (NNSA), published a notice of availability for the Draft Supplemental Environmental Impact Statement for the Nuclear Facility Portion of the Chemistry and Metallurgy Research Building Replacement Project at Los Alamos National Laboratory, Los Alamos, New Mexico (CMRR-NF DSEIS; DOE/EIS-0350-S1) (76 FR 24018). That notice stated that the public review and comment period would continue until June 13, 2011. NNSA has decided to extend the public comment period by 15 days through June 28, 2011. NNSA has also decided to hold one additional public hearing during the comment period.

The newly added public hearing will take place on Monday, May 23, 2011 in Albuquerque, NM. The complete schedule for public hearings on the Draft CMRR-NF SEIS with all dates, times, and locations is the following:

• Monday, May 23, 2011, at 5 p.m. to 9 p.m., Albuquerque Marriott, Salon F, 2101 Louisiana Boulevard, NE., Albuquerque, NM.

• Tuesday, May 24, 2011, at 5 p.m. to 9 p.m., Holiday Inn Express, 60 Entrada Drive, Los Alamos, NM.

• Wednesday, May 25, 2011, at 5 p.m. to 9 p.m., Santa Claran Hotel, 464 N. Riverside Drive, Española, NM.

• Thursday, May 26, 2011, at 5 p.m. to 9 p.m., Santa Fe Community College, Jemez Rooms, 6401 Richards Avenue, Santa Fe, NM.

The first half hour of each hearing will be conducted as an open house-style session with subject matter experts available to discuss the project and answer questions; the remainder of the hearing will be devoted to receiving oral and written comments.

NNSA invites stakeholders and members of the public to submit comments on the Draft CMRR-NF SEIS during the public comment period, which started with the publication of the Environmental Protection Agency's Notice of Availability in the Federal Register on April 29, 2011 and will continue for 60 days until June 28, 2011. NNSA will consider comments received after this date to the extent practicable as it prepares the Final CMRR-NF SEIS. Questions or Comments concerning the Draft CMRR-NF SEIS can be submitted to the NNSA Los Alamos Site Office at the same postal and electronic addresses given above. Additionally, the LASO CMRR-NF SEIS Hotline provides instructions on how to record comments. Please mark all envelopes, faxes and e-mail: “Draft CMRR-NF SEIS Comments”.

Issued in Washington, DC, on May 10, 2011.
Thomas P. D'Agostino,
Administrator, National Nuclear Security Administration.

[FR Doc. 2011-11909 Filed 5-13-11; 8:45 am]

BILLING CODE 6450-01-P